FEDERAL COMMUNICATIONS COMMISSION

[FR ID 248061]

Open Commission Meeting Thursday, September 26, 2024

September 19, 2024.

The Federal Communications Commission will hold an Open Meeting on the subjects listed below on Thursday, September 26, 2024, which is scheduled to commence at 10:30 a.m. in the Commission Meeting Room of the Federal Communications Commission, 45 L Street NE, Washington, DC.

While attendance at the Open Meeting is available to the public, the FCC headquarters building is not open access and all guests must check in with and be screened by FCC security at the main entrance on L Street. Attendees at the Open Meeting will not be required to have an appointment but must otherwise comply with protocols outlined at: www.fcc.gov/visit. Open Meetings are streamed live at: www.fcc.gov/live and on the FCC's YouTube channel.

Item No. | Bureau | Subject
1 | CONSUMER & GOVERNMENTAL AFFAIRS | Title: Access to Video Conferencing Services (CG Docket No. 23-161); Implementation of Sections 716 and 717 of the Communications Act of 1934, as enacted by the Twenty-First Century Communications and Video Accessibility Act of 2010 (CG Docket No. 10-213); Telecommunications Relay Services and Speech-to-Speech Services for Individuals with Hearing and Speech Disabilities (CG Docket No. 03-123); Petition of Sorenson Communications, LLC for Limited Waiver of the Privacy Screen Rule.
|  | Summary: The Commission will consider a Second Report and Order and Further Notice of Proposed Rulemaking to ensure that people with disabilities can fully participate in video conferencing, including by the use of telecommunications relay services (TRS).
2 | CONSUMER & GOVERNMENTAL AFFAIRS | Title: Advanced Methods to Target and Eliminate Unlawful Robocalls (CG Docket No. 17-59); Targeting and Eliminating Unlawful Text Messages (CG Docket No. 21-402).
|  | Summary: The Commission will consider a Report and Order that would bolster current FCC rules on blocking and robocall mitigation in key areas, including by expanding requirements to block calls based on reasonable do-not-originate lists and by creating new financial penalties for carriers who fail to protect consumers from illegal calls.
3 | SPACE | Title: Amendment of Parts 2 and 25 of the Commission's Rules to Enable NGSO Fixed-Satellite Service (Space-to-Earth) Operations in the 17.3-17.8 GHz Band (IB Docket No. 22-273).
|  | Summary: The Commission will consider a Report and Order that will provide 1300 megahertz of spectrum in the 17 GHz band for non-geostationary satellite orbit (NGSO) space stations in the fixed-satellite service (FSS) while also protecting incumbent operations. The Order provides a more cohesive global framework for FSS operators and maximizes the efficient use of the 17 GHz band spectrum.
4 | MEDIA | Title: Modifying Rules for FM Terrestrial Digital Audio Broadcasting Systems (MB Docket No. 22-405).
|  | Summary: The Commission will consider a Report and Order implementing a streamlined process for authorizing digital transmissions at different power levels on the upper and lower digital sideband in order to enhance digital FM radio coverage and prevent interference.
5 | ENFORCEMENT | Title: Enforcement Bureau Action.
|  | Summary: The Commission will consider an enforcement action.
6 | ENFORCEMENT | Title: Enforcement Bureau Action.
|  | Summary: The Commission will consider an enforcement action.
7 | ENFORCEMENT | Title: Enforcement Bureau Action.
|  | Summary: The Commission will consider an enforcement action.
8 | ENFORCEMENT | Title: Enforcement Bureau Action.
|  | Summary: The Commission will consider an enforcement action.
9 | ENFORCEMENT | Title: Enforcement Bureau Action.
|  | Summary: The Commission will consider an enforcement action.
10 | ENFORCEMENT | Title: Enforcement Bureau Action.
|  | Summary: The Commission will consider an enforcement action.
11 | ENFORCEMENT | Title: Enforcement Bureau Action.
|  | Summary: The Commission will consider an enforcement action.

* * * * *

The meeting will be webcast at: www.fcc.gov/live. Open captioning will be provided as well as a text only version on the FCC website. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530.

Press Access—Members of the news media are welcome to attend the meeting and will be provided reserved seating on a first-come, first-served basis. Following the meeting, the Chairwoman may hold a news conference in which she will take questions from credentialed members of the press in attendance. Also, senior policy and legal staff will be made available to the press in attendance for questions related to the items on the meeting agenda. Commissioners may also choose to hold press conferences. Press may also direct questions to the Office of Media Relations (OMR): MediaRelations@fcc.gov. Questions about credentialing should be directed to OMR.

Additional information concerning this meeting may be obtained from the Office of Media Relations, (202) 418-0500. Audio/Video coverage of the meeting will be broadcast live with open captioning over the internet from the FCC Live web page at www.fcc.gov/live.

Marlene Dortch,
Secretary.

[FR Doc. 2024-22454 Filed 9-30-24; 8:45 am]

BILLING CODE 6712-01-P